DEPARTMENT OF ENERGY

[Docket Nos. EA-257-A]

Application To Export Electric Energy; Emera Energy Services, Inc.

AGENCY: Office of Fossil Energy, DOE.

ACTION: Notice of application.

SUMMARY: Emera Energy Services, Inc. (EES) has applied to renew its authorization to export electric energy from the United States to Canada, pursuant to section 202(e) of the Federal Power Act.

DATES: Comments, protests or requests to intervene must be submitted on or before March 15, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Xavier Puslowski (Program Office) 202-586-4708 or Michael Skinker (Program Attorney) 202-586-6667.

SUPPLEMENTARY INFORMATION: Exports of electricity from the United States to a foreign country are regulated and require authorization under section 202(e) of the Federal Power Act (FPA) (16 U.S.C. 824a(e)).

On April 5, 2002, the Office of Fossil Energy (FE) of the Department of Energy (DOE) issued Order No. EA-257 authorizing EES to transmit electric energy from the United States to Canada as a power marketer using certain international electric transmission facilities. That two-year authorization expires on April 5, 2004.

On January 30, 2004, EES applied to the Department of Energy (DOE) to renew its authority to export electric energy from the United States to Canada. EES, a Delaware corporation with its principal place of business in Bangor, Maine, is a wholly-owned indirect subsidiary of Emera Incorporated, a Nova Scotia corporation that is a diversified energy and services company. EES does not own or control any electric generation or transmission facilities nor does it have a franchised service area. Emera Incorporated owns and operates transmission facilities in the United States through its operating divisions. EES will engaged in the marketing of power as both a broker and as a marketer of electric power at wholesale. EES plans to purchase the power that it will sell from cogeneration facilities, federal power marketing agencies, electric utilities and exempt wholesale generators within the United States.

In FE Docket No. EA-257-A, EES proposes to export electric energy to Canada and to arrange for the delivery of those exports to Canada over the international transmission facilities owned by Vermont Electric Power Company, Inc., Eastern Maine Electric Cooperative, Joint Owners of the Highgate Project, Maine Electric Power Company, Maine Public Service Company, and Vermont Electric Transmission Company.

The construction of each of the international transmission facilities to be utilized by EES has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the EES application to export electric energy to Canada should be clearly marked with Docket EA-257-A. Additional copies are to be filed directly with Calvin Bell, Emera Energy Services, Inc., One Cumberland Place, Suite 102, Bangor, ME 04401, Wendy N. Reed, Deborah C. Brentani, Wright & Talisman, P.C., 1200 G Street, NW., Suite 600, Washington, DC 20005 and Mr. Richard J. Smith, Secretary and General Counsel, Emera Incorporated, 1894 Barington Street, 18th Floor, Barrington Tower, P.O. Box 910, Halifax, Nova Scotia, Canada B3J 2W5.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory” Programs,” then “Electricity Regulation,” and then “Pending Proceedings” from the options menu.

Issued in Washington, DC, on February 9, 2004.
Anthony J. Como,
Deputy Director, Electric Power Regulation, Office of Coal & Power Import/Export, Office of Coal & Power Systems, Office of Fossil Energy.

[FR Doc. 04-3216 Filed 2-12-04; 8:45 am]

BILLING CODE 6450-01-P